DEPARTMENT OF HEALTH AND HUMAN SERVICES

Substance Abuse and Mental Health Services Administration

Meeting of the Substance Abuse and Mental Health Services Administration's Tribal Technical Advisory Committee (TTAC)

AGENCY: Substance Abuse and Mental Health Services Administration, HHS.

ACTION: Notice.

SUMMARY: Pursuant to Presidential Executive Order No. 13175, November 6, 2000, and the Presidential Memorandum of September 23, 2004, notice is hereby given for the meeting on February 27, 2024, of the Substance Abuse and Mental Health Services Administration's Tribal Technical Advisory Committee (TTAC). The meeting is open to the public and will be held in person. Agenda with call-in information will be posted on the SAMHSA website prior to the meeting at: https://www.samhsa.gov/about-us/advisory-councils/meetings. The meeting will include, but not be limited to, remarks from the Assistant Secretary for Mental Health and Substance Use; updates on SAMHSA priorities; follow up on topics related to the previous TTAC meetings; and council discussions.

DATES: February 27, 2024, 8 a.m. to approximately 5 p.m. (ET).

ADDRESSES: 5600 Fishers Lane, Rockville, MD 20857, 5th Floor 5W07.

FOR FURTHER INFORMATION CONTACT: Karen Hearod, CAPT USPHS, Director, Office of Tribal Affairs Policy, 5600 Fishers Lane, Rockville, Maryland 20857 (mail); telephone: (202) 868-9931; email: karen.hearod@samhsa.hhs.gov.

SUPPLEMENTARY INFORMATION: SAMHSA TTAC provides a venue wherein Tribal leadership and SAMHSA staff can exchange information about public health issues, identify urgent mental health and substance use needs, and discuss collaborative approaches to addressing these behavioral health issues and needs.

TTAC meetings are exclusively between Federal officials and elected officials of Tribal governments (or their designated employees) to exchange views, information, or advice related to the management or implementation of SAMHSA programs.

The public may attend but are not allowed to participate in the meeting.

To obtain the call-in number, access code, and/or web access link; or request special accommodations for persons with disabilities, please register on-line at: https://snacregister.samhsa.gov or communicate with Karen Hearod.

Meeting information and a roster of TTAC members may be obtained either by accessing the SAMHSA Council's website at: https://www.samhsa.gov/about-us/advisory-councils/, or by contacting Karen Hearod.

Authority:

Dated: December 11, 2023.
Carlos Castillo,
Committee Management Officer.

[FR Doc. 2023-27471 Filed 12-15-23; 8:45 am]

BILLING CODE 4162-20-P